DEPARTMENT OF COMMERCE

National Oceanic and Atmospheric Administration

RIN 0648-XP94

Marine Mammals; File No. 984-1587-08

AGENCY: National Marine Fisheries Service (NMFS), National Oceanic and Atmospheric Administration (NOAA), Commerce.

ACTION: Notice; issuance of permit amendment.

SUMMARY: Notice is hereby given that the Dr. Terrie Williams, Department of Biology, University of California at Santa Cruz, Santa Cruz, CA 95064 has been issued an amendment to scientific research Permit No. 984-1587-07.

ADDRESSES: The amendment and related documents are available for review upon written request or by appointment in the following office:

Permits, Conservation and Education Division, Office of Protected Resources, NMFS, 1315 East-West Highway, Room 13705, Silver Spring, MD 20910; phone (301)713-2289; fax (301)427-2521.

FOR FURTHER INFORMATION CONTACT: Jennifer Skidmore or Amy Sloan (301)713-2289.

SUPPLEMENTARY INFORMATION: The requested permit amendment has been issued under the authority of the Marine Mammal Protection Act of 1972, as amended (16 U.S.C. 1361 et seq.), and the Regulations Governing the Taking and Importing of Marine Mammals (50 CFR part 216).

Permit No. 984-1587 authorized captive research activities on two bottlenose dolphins (Tursiops truncatus) and juvenile California sea lions (Zalophus californianus) undergoing rehabilitation at The Marine Mammal Center through June 7, 2009. The minor amendment (No. 984-1587-08) extends the duration of the permit through September 7, 2009, but does not change any other terms or conditions of the permit.

In compliance with the National Environmental Policy Act of 1969 (42 U.S.C. 4321 et seq.), a final determination has been made that the activity proposed is categorically excluded from the requirement to prepare an environmental assessment or environmental impact statement.

Dated: June 23, 2009.
P. Michael Payne,
Chief, Permits, Conservation and Education Division, Office of Protected Resources, National Marine Fisheries Service.

[FR Doc. E9-15343 Filed 6-26-09; 8:45 am]

BILLING CODE 3510-22-S